DEPARTMENT OF TRANSPORTATION

Federal Aviation Administration

14 CFR Part 71

[Docket No. FAA-2022-1436; Airspace Docket No. 22-ACE-13]

RIN 2120-AA66

Proposed Amendment of VOR Federal Airways V-50, V-52, V-63, and V-586, and Revocation of V-582 in the Vicinity of Quincy, IL

AGENCY: Federal Aviation Administration (FAA), DOT.

ACTION: Notice of proposed rulemaking (NPRM).

SUMMARY: This action proposes to amend VHF Omnidirectional Range (VOR) Federal airways V-50, V-52, V-63, and V-586, and revoke VOR Federal airway V-582. The FAA is proposing this action due to the planned decommissioning of the VOR portion of the Quincy, IL (UIN), VOR/Tactical Air Navigation (VORTAC) navigational aid (NAVAID). The Quincy VOR is being decommissioned in support of the FAA's VOR Minimum Operational Network (MON) program.

DATES: Comments must be received on or before February 13, 2023.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2022-1436; Airspace Docket No. 22-ACE-13 at the beginning of your comments. You may also submit comments through the internet at www.regulations.gov.

FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the Air Traffic Service (ATS) route structure as necessary to preserve the safe and efficient flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-1436; Airspace Docket No. 22-ACE-13) and be submitted in triplicate to the Docket Management Facility (see ADDRESSES section for address and phone number). You may also submit comments through the internet at www.regulations.gov.

Commenters wishing the FAA to acknowledge receipt of their comments on this action must submit with those comments a self-addressed, stamped postcard on which the following statement is made: “Comments to FAA Docket No. FAA-2022-1436; Airspace Docket No. 22-ACE-13.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Operations Support Group, Central Service Center, Federal Aviation Administration, 10101 Hillwood Parkway, Fort Worth, TX 76177.

Availability and Summary of Documents for Incorporation by Reference

This document proposes to amend FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

Background

The FAA is planning to decommission the VOR portion of the Quincy, IL, VORTAC in June 2023. The Quincy VOR was one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

Although the VOR portion of the Quincy, IL, VORTAC is planned for decommissioning, the co-located DME portion of the NAVAID is being retained to support NextGen PBN flight procedure requirements.

The VOR Federal airways effected by the Quincy VOR decommissioning are VOR Federal airways V-50, V-52, V-63, V-582, and V-586. With the planned decommissioning of the Quincy VOR, the remaining ground-based NAVAID coverage in the area is insufficient to enable the continuity of the affected airways. As such, proposed modifications to the affected VOR Federal airways would result in creating gaps in three of the airways (V-50, V-52, and V-63), redefining an airway end point in one of the airways (V-586), and revoking one of the airways (V-582).

To overcome the proposed modifications to the affected airways, instrument flight rules (IFR) traffic could use portions of VOR Federal airways V-4, V-9, V-10, V-67, and V-580 or request air traffic control (ATC) radar vectors to circumnavigate or fly through the affected area. Additionally, pilots equipped with Area Navigation (RNAV) capabilities could also use portions of RNAV routes T-251, T-272, and T-397 or navigate point to point using the existing NAVAIDs and fixes that would remain in place to support continued operations though the affected area. Visual flight rules (VFR) pilots who elect to navigate via the affected VOR Federal airways could also take advantage of the adjacent airways or ATC services listed previously.

The Proposal

The FAA is proposing an amendment to 14 CFR part 71 to amend VOR Federal airways V-50, V-52, V-63, and V-586, and revoke VOR Federal airway V-582 due to the planned decommissioning of the VOR portion of the Quincy, IL, VORTAC. The proposed airway actions are described below.

V-50: V-50 currently extends between the St Joseph, MO, VORTAC and the Dayton, OH, VOR/Distance Measuring Equipment (VOR/DME). The FAA proposes to remove the airway segment overlying the Quincy VORTAC between the Kirksville, MO, VORTAC and the Spinner, IL, VORTAC. As amended, the airway would extend between the St Joseph VORTAC and the Kirksville VORTAC and between the Spinner VORTAC and the Dayton VOR/DME.

V-52: V-52 currently extends between the Des Moines, IA, VORTAC and the Pocket City, IN, VORTAC. The FAA proposes to remove the airway segment overlying the Quincy VORTAC between the Ottumwa, IA, VOR/DME and the St Louis, MO, VORTAC. As amended, the airway would extend between the Des Moines VORTAC and the Ottumwa VOR/DME and between the St Louis VORTAC and the Pocket City VORTAC.

V-63: V-63 currently extends between the Razorback, AR, VORTAC and the Davenport, IA, VORTAC; between the Janesville, WI, VOR/DME and the Oshkosh, WI, VORTAC; and between the Rhinelander, WI, VOR/DME and the Houghton, MI, VOR/DME. The airspace at and above 10,000 feet mean sea level (MSL) from 5 nautical miles (NM) north to 46 NM north of Quincy, IL, is excluded when the Howard West Military Operations Area (MOA) is active. The FAA proposes to remove the airway segment overlying the Quincy VORTAC between the Hallsville, MO, VORTAC and the Burlington, IL, VOR/DME. The airspace exclusion language addressing the Howard West MOA activations would also be removed as the amended airway would no longer overlap the Howard West MOA. As amended, the airway would extend between the Razorback VORTAC and the Hallsville VORTAC, between the Burlington VOR/DME and the Davenport VORTAC, between the Janesville VOR/DME and the Oshkosh VORTAC, and between the Rhinelander VOR/DME and the Houghton VOR/DME.

V-582: V-582 currently extends between the St. Louis, MO, VORTAC and the Quincy, IL, VORTAC. The FAA proposes to remove the airway in its entirety.

V-586: V-586 currently extends between the Quincy, IL, VORTAC and the Joliet, IL, VOR/DME. The FAA proposes to remove the airway segment overlying the Quincy VORTAC between the Quincy, IL, VORTAC and the Peoria, IL, VORTAC. As amended, the airway would extend between the Peoria VORTAC and the Joliet VOR/DME.

The NAVAID radials listed in the VOR Federal airway V-52 description below are unchanged and stated in True degrees.

VOR Federal airways are published in paragraph 6010(a) of FAA Order JO 7400.11G, dated August 19, 2022, and effective September 15, 2022, which is incorporated by reference in 14 CFR 71.1. The ATS routes listed in this document would be published subsequently in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6010(a) Domestic VOR Federal Airways.

* * * * *

V-50 [Amended]

From St Joseph, MO; to Kirksville, MO. From Spinner, IL; Adders, IL; Terre Haute, IN; Brickyard, IN; to Dayton, OH.

* * * * *

V-52 [Amended]

From Des Moines, IA; to Ottumwa, IA. From St Louis, MO; Troy, IL; INT Troy 099° and Pocket City, IN, 311° radials; to Pocket City.

* * * * *

V-63 [Amended]

From Razorback, AR; Springfield, MO; to Hallsville, MO. From Burlington, IA; Moline, IL; to Davenport, IA. From Janesville, WI; Badger, WI; to Oshkosh, WI. From Rhinelander, WI; to Houghton, MI.

* * * * *

V-582 [Removed]

* * * * *

V-586 [Amended]

From Peoria, IL; Pontiac, IL; to Joliet, IL.

* * * * *

Issued in Washington, DC, on December 23, 2022.
Scott M. Rosenbloom,
Manager, Airspace Rules and Regulations.

[FR Doc. 2022-28328 Filed 12-28-22; 8:45 am]

BILLING CODE 4910-13-P